POSTAL SERVICE

Sunshine Act Meetings

TIME AND DATE: Wednesday, February 5, 2025, at 9:00 a.m.; Thursday, February 6, 2025, at 10:00 a.m.

PLACE: Washington, DC, at U.S. Postal Service Headquarters, 475 L'Enfant Plaza SW, in the Benjamin Franklin Room.

STATUS: Wednesday, February 5, 2025, at 9:00 a.m.—Closed. Thursday, February 6, 2025, at 10:00 a.m.—Open.

MATTERS TO BE CONSIDERED:

Meeting of the Board of Governors

Wednesday, November 13, 2024, at 9:00 a.m. (Closed)

1. Strategic Matters.

2. Financial and Operational Matters.

3. Compensation and Personnel Matters.

4. Administrative Items.

Thursday, November 14, 2024, at 10:00 a.m. (Open)

1. Remarks of the Chairman of the Board of Governors.

2. Remarks of the Postmaster General and CEO.

3. Approval of the Minutes.

4. Committee Reports.

5. Quarterly Financial Report.

6. Quarterly Service Performance Report.

7. Approval of Tentative Agenda for the May 8, 2025 Meeting.

8. Adjournment.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2025-01748 Filed 1-22-25; 11:15 am]

BILLING CODE 7710-12-P